DEPARTMENT OF TRANSPORTATION

Federal Motor Carrier Safety Administration

[Docket No. FMCSA-2024-0204]

Agency Information Collection Activities; Renewal of a Currently Approved Collection: Driver Qualification Files

AGENCY: Federal Motor Carrier Safety Administration (FMCSA), DOT.

ACTION: Notice and request for comments.

SUMMARY: In accordance with the Paperwork Reduction Act of 1995 (PRA), FMCSA announces its plan to submit the Information Collection Request (ICR) described below to the Office of Management and Budget (OMB) for its review and approval and invites public comment. FMCSA requests approval to revise and renew an ICR titled “Driver Qualification Files.” The ICR estimates the burden commercial motor vehicle (CMV) drivers and motor carriers incur to comply with the reporting and recordkeeping tasks required for motor carriers to maintain driver qualification (DQ) files. The Agency's regulations pertaining to maintaining DQ files are unchanged and impose no increased information collection (IC) burden on individual drivers and motor carriers. The December 23, 2024, Federal Register notice contained incorrect estimates for burden hours and respondents. The Agency corrects these errors.

DATES: Comments on this notice must be received on or before May 15, 2025.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Ms. Pearlie Robinson, Driver and Carrier Operations Division, DOT, FMCSA, 1200 New Jersey Avenue SE, Washington, DC 20590-0001; 202-366-4225; pearlie.robinson@dot.gov.

SUPPLEMENTARY INFORMATION:

Title: Driver Qualification Files.

OMB Control Number: 2126-0004.

Type of Request: Renewal of a currently approved information collection.

Respondents: CMV motor carriers and drivers.

Estimated Number of Respondents: 9.86 million (9.05 million drivers + 0.81 million motor carriers).

Expiration Date: May 31, 2025.

Frequency of Response: The information on some DQ documents is only provided one time, such as that furnished at the time the individual applies for employment as a driver.

Other information must be obtained by the motor carrier within 30 days of the date the driver begins to drive a CMV for the employer. Other information, such as the driver's motor vehicle record, is only updated once a year.

Estimated Total Annual Burden: 14.15 million hours.

Definitions: N/A.

Background: The Motor Carrier Safety Act of 1984 (Pub. L. 98-554, Title II, 98 Stat. 2834 (Oct. 30, 1984)) requires the Secretary of Transportation to issue regulations pertaining to CMV safety. Part 391 of volume 49 of the Code of Federal Regulations (CFR) contains the minimum qualifications of drivers of CMVs in interstate commerce.

Motor carriers may not require or permit an unqualified driver to operate a CMV. The foremost proof of driver qualification is the information that part 391 requires be collected and maintained in the DQ file (49 CFR 391.51). Motor carriers must obtain this information from sources specified in the regulations, such as the driver, previous employers of the driver, and officials of the State of driver licensure. Motor carriers are not required to forward DQ information to FMCSA but must maintain the information in a DQ file and make it available to State and Federal safety investigators on demand.

The Federal Register notice (89 FR 104604) published on December 23, 2024, contained incorrect estimates for burden hours and respondents. Burden hours were reported as 18.39 million hours instead of 14.15 million hours, and respondents were reported as 9.87 million instead of 9.86 million. These errors resulted in an increase in both burden hours and respondents. This notice corrects those errors indicating a decrease in burden hours and a decrease in respondents.

Renewal of This IC

The current IC burden estimate associated with this IC, approved by OMB on May 22, 2022, is 14.23 million hours. The expiration date of the current ICR is May 31, 2025. Through this ICR revision and renewal, the Agency estimates a reduction in the burden hours from 14.23 million hours to 14.15 million hours. The decrease is the result of a decrease in the driver population and a decrease in the driver turnover rate, both of which affect the volume of documents produced and filed in DQ files.

On December 23, 2024, FMCSA published a Federal Register notice allowing for a 60-day comment period on this ICR (89 FR 104604). The comment period closed on January 21, 2025. There were no comments submitted in response to that notice.

Public Comments Invited

You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority delegated in 49 CFR 1.87.
Kenneth Riddle,
Associate Administrator, Office of Research and Registration.

[FR Doc. 2025-06345 Filed 4-14-25; 8:45 am]

BILLING CODE 4910-EX-P